DEPARTMENT OF THE INTERIOR

National Park Service

[NPS-NER-MAMC-37965; PPNCNACEN0, PPMPSAS1Z.Y00000]

Second Call for Nominations for the Mary McLeod Bethune Council House National Historic Site Advisory Commission

AGENCY: National Park Service, Interior.

ACTION: Notice of second call for nominations.

SUMMARY: The National Park Service (NPS), U.S. Department of the Interior, is requesting nominations for qualified persons to serve as members of the Mary McLeod Bethune Council House National Historic Site Advisory Commission (Commission).

DATES: The deadline for submissions for the notice published on April 2, 2024, at 89 FR 22740 has been extended. All nominations must be postmarked by July 22, 2024.

ADDRESSES: Nominations should be sent to Tara Morrison, Superintendent and Designated Federal Officer, National Capital Parks—East, 1900 Anacostia Drive SE, Washington, DC 20020, or by email nace_superintendent@nps.gov with MAMC Nomination in the subject line.

FOR FURTHER INFORMATION CONTACT: Tara Morrison, via telephone (771) 208-1450, or by email nace_superintendent@nps.gov.

SUPPLEMENTARY INFORMATION: The Commission was authorized on December 11, 1991, by Public Law 102-211 (54 U.S.C. 320101 formerly 16 U.S.C. 461 note), for the purpose of advising the Secretary of the Interior in the implementation of a general management plan for the Mary McLeod Bethune Council House National Historic Site. The Commission is to fully participate in an advisory capacity with the Secretary of the Interior in the development of the General Management Plan for the historic site. The Commission will also, as often as necessary, but at least semiannually, meet and consult with the Secretary on matters relating to the management and development of the historic site.

The Commission shall be composed of 15 members appointed by the Secretary of the Interior for 4-year terms, as follows: (1) three members appointed from recommendations submitted by the National Council of Negro Women, Inc.; (2) two members appointed from recommendations submitted by other national organizations in which Mary McLeod Bethune played a leadership role; (3) two members who shall have professional expertise in the history of African American women; (4) three members who shall have professional expertise in archival management; (5) three members who shall represent the general public; and (6) two members who shall have professional expertise in historic preservation. We are currently seeking nominees from recommendations submitted by other national organizations in which Mary McLeod Bethune played a leadership role.

Nominations should be typed and include a resume providing an adequate description of the nominee's qualifications, including information that would enable the Department of the Interior to make an informed decision regarding meeting the membership requirements of the Commission and permit the Department to contact a potential member. All documentation, including letters of recommendation, must be compiled and submitted in one complete package. All those interested in membership, including current members whose terms are expiring, must follow the same nomination process. Members may not appoint deputies or alternates.

Members of the Commission serve without compensation. However, while away from their homes or regular places of business in the performance of services for the Commission as approved by the NPS, members will be allowed travel expenses, including per diem in lieu of subsistence, in the same manner as persons employed intermittently in Government service are allowed such expenses under section 5703 of title 5 of the United States Code.

Authority: 5 U.S.C. ch. 10.

Alma Ripps,
Chief, Office of Policy.

[FR Doc. 2024-13495 Filed 6-18-24; 8:45 am]

BILLING CODE 4312-52-P